ENVIRONMENTAL PROTECTION AGENCY

[OPP-2004-0171; FRL-7361-8]

Pesticide Environmental Stewardship Program (PESP) Regional Grants; Notice of Funds Availability

AGENCY: Environmental Protection Agency (EPA).

ACTION: Notice

.

SUMMARY: EPA's Office of Pesticide Programs (OPP), in coordination with the EPA Regional Offices, is soliciting proposals for the Pesticide Environmental Stewardship Program (PESP) from eligible applicants who include the 50 States, District of Columbia, U.S. Virgin Islands, Commonwealth of Puerto Rico, any territory or possession of the United States, any agency or instrumentality of a State including State universities, and all federally recognized Native American Tribes. Under this program, cooperative agreement awards will provide financial assistance to eligible applicants to carry out projects that reduce the risks associated with pesticide use in agricultural and non-agricultural settings. The total amount of funding available for award in fiscal year 2004 is expected to be approximately $500,000 with a maximum funding level of $40,000 per project.

DATES: Applications must be received by your EPA Regional Office on or before August 30, 2004.

ADDRESSES: Proposals must be mailed to your EPA Regional Office. Please follow the detailed instructions provided in Unit IV.H. of theSUPPLEMENTARY INFORMATION.

FOR FURTHER INFORMATION CONTACT: Your EPA Regional PESP Coordinator listed in Unit IV.H. of the Supplementary Information.

SUPPLEMENTARY INFORMATION:

I. Overview Information

The following listing provides certain key information concerning the proposal opportunity.

• Federal agency name: Environmental Protection Agency (EPA).

• Funding opportunity title: Pesticide Environmental Stewardship Program (PESP) Regional Grants; Notice of Funds Availability.

• Announcement type: The initial announcement of a funding opportunity.

• Catalog of Federal Domestic Assistance (CFDA) number(s): 66.714.

• Dates: Applications must be received by EPA on or before August 30, 2004.

II. General Information

A. Does this Action Apply to Me?

This action is directed to the public in general but will be of particular interest to eligible applicants which include the 50 States, District of Columbia, U.S. Virgin Islands, Commonwealth of Puerto Rico, any territory or possession of the United States, any agency or instrumentality of a State including State universities, and all federally recognized Native American Tribes. If you have any questions regarding the applicability of this action to a particular entity, consult your EPA Regional PESP Coordinator listed under Unit IV.H.

B. How Can I Get Additional Information, Including Copies of this Document and Other Related Documents?

1. Docket. EPA has established an official public docket for this action under docket identification (ID) number OPP-2004-0171. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. Additional information is available on EPA's PESP Website at http://www.epa.gov/oppbppd1/PESP/regional_grants.htm.

An electronic version of the public docket is available through EPA's electronic public docket and comment system, EPA Dockets. You may use EPA Dockets at http://www.epa.gov/edocket/, to access the index listing of the contents of the official public docket, and to access those documents in the public docket that are available electronically. Although not all docket materials may be available electronically, you may still access any of the publicly available docket materials through the docket facility identified in Unit II.B.1. Once in the system, select “search,” then key in the appropriate docket ID number.

3. By mail or in person. Contact your EPA Regional PESP Coordinator listed under Unit IV.H.

III. Introduction

The goal of the Pesticide Environmental Stewardship Program (PESP) is to reduce the risks associated with pesticide use in agricultural and non-agricultural settings in the United States. Each year since 1996, EPA's Office of Pesticide Programs, in coordination with the EPA Regional Offices, has published similar solicitations, awarding approximately $500,000 annually to eligible State and Tribal entities for projects supporting pesticide risk reduction. This Federal Register notice provides qualification and application requirements to parties who may be interested in submitting proposals for fiscal year 2004 monies. The total amount available for award during this funding cycle is expected to be approximately $500,000. Maximum award amount per proposal is set at $40,000. Indirect cost rates will not increase the $40,000 maximum funding amount.

A list of projects funded since fiscal year 1998 and their proposals may be obtained at http://www.epa.gov/oppbppd1/PESP/regional_grants.htm or from your Regional PESP Coordinator.

IV. Purpose and Objectives

A. Purpose and Scope

Cooperative agreements awarded under this program are intended to provide financial assistance to eligible States and Tribal governments for projects that address pesticide pollution prevention, integrated pest management (IPM), IPM in schools, children's health issues related to pesticides, and those research methods for documenting IPM adoption or the reduction of risks associated with changes in pesticide use. Other projects will be considered as they complement these goals through public education, training, monitoring, demonstrations, and other activities. Emphasis will be placed on those projects with defined outcomes that can quantitatively document project impacts. Although the proposal may request funding for activities that will further long-term objectives, this program provides one time funding, and the maximum period of performance for funded activities is expected to be not more than 24 months.

This program is included in the Catalog of Federal Domestic Assistance at http://www.cfda.gov/public/whole.pdf under number 66.714.

B. Goals and Objectives

EPA intends that recipients will use funding provided under this Regional Pesticide Environmental Stewardship Program Grants program to help address specific pesticide risk reduction concerns. The Agency will consider funding a broad range of projects that reduce pesticide risk to human health and the environment. For a partial listing of eligible types of projects, see Unit IV.E.

C. Eligibility

1. Applicants. The 50 States, District of Columbia, U.S. Virgin Islands, Commonwealth of Puerto Rico, any territory or possession of the United States, any agency or instrumentality of a State including State universities, and all federally recognized Native American Tribes that are eligible to receive federal funding may submit a project proposal. Local governments, private universities, private nonprofit entities, private businesses, and individuals are not eligible. The organizations excluded from applying directly are encouraged to work with eligible applicants in developing proposals that include them as participants in the projects.

To be eligible for consideration, applicants must meet all of the following criteria. Failure to meet the following criteria will result in the automatic disqualification of the proposal for consideration for funding:

• The applicant must be eligible to receive funding under this announcement.

• The proposal must meet all format and content requirements contained in this notice.

• The proposal must comply with the directions for submittal contained in this notice.

2. Qualifications. Qualified applicants are limited to the 50 States, District of Columbia, U.S. Virgin Islands, Commonwealth of Puerto Rico, any territory or possession of the United States, any agency or instrumentality of a State including State universities, and all federally recognized Native American Tribes as defined in Unit II.A. Additional application requirements are listed under Unit IV.G.

D. Authority

EPA expects to award grants and cooperative agreements under the authority provided in FIFRA section 20 which authorizes the Agency to issue grants or cooperative agreements for research, public education, training, monitoring, demonstration and studies.

The award and administration of these grants will be governed by the Uniform Administrative Requirements for Grants and Cooperative Agreements to States, Tribes, and local governments set forth at 40 CFR part 31. Grants awarded pursuant to this solicitation are program grants subject to the regulations for “Environmental Program Grants” set forth at 40 CFR part 35, subpart B. In addition, the provision in 40 CFR part 32, governing government-wide debarment and suspension, and the provisions in 40 CFR part 40 regarding restrictions on lobbying, apply.

All costs incurred under this program must be allowable under the applicable OMB Cost Circular A-87. Copies of this circular can be found at http://www.whitehouse.gov/omb/circulars/. In accordance with the EPA policy and the OMB circular, any recipient of funding must agree not to use assistance funds for fund-raising, or political activities such as lobbying members of Congress or lobbying for other federal grants, cooperative agreements, or contracts. See 40 CFR part 40.

E. Activities that May be Funded

EPA specifically seeks to build IPM capacities or to evaluate the economic feasibility of new IPM approaches at the local level (i.e., innovative approaches and methodologies that use application or other strategies to reduce the risks associated with pesticide use). Following are three examples of possible projects.

• Researching the effectiveness of multimedia communication activities for, including but not limited to promoting local IPM activities, providing technical assistance to pesticide users, collecting and analyzing data to target outreach and technical assistance opportunities, developing measures to determine and document progress in pollution prevention, and identifying regulatory and non-regulatory barriers or incentives to pollution prevention.

• Investigating methods for establishing IPM as an environmental management priority, establishing prevention goals, developing strategies to meet those goals, and integrating the ethic within both governmental and non-governmental institutions of the State or region.

• Initiating projects that test and support innovative techniques for reducing pesticide risk including reduced use and improved application techniques to reduce worker and environmental exposure.

F. Award and Distribution of Funds

1. Available funds. Funding for each award recipient will be in the form of a cooperative agreement for $40,000 or less, under FIFRA section 20. The total available for award is expected to be approximately $500,000.

Should additional funding become available for award, the Agency may make additional monies available, based on this solicitation and in accordance with the final selection process, without further notice of competition. The Agency also reserves the right to decrease available funding for this program, or to make no awards based on this solicitation. All costs charged to these awards must be allowable under the applicable OMB Cost Circular, A-87 which may be found at http://www.whitehouse.gov/omb/circulars/.

2. Evaluation process and criteria. Proposals will be reviewed and approved for validity and completeness by EPA Regional Office personnel. If the Region determines that an application is incomplete, the proposal will not be considered further. Each Region will convene a panel consisting of regional staff to evaluate all complete proposal packages. The highest ranked proposal in each Region will be funded.

Proposals ranked second highest in each Region will be placed into a national pool. A panel, composed of three Regional Offices and one Office of Pesticide Programs personnel will re-evaluate these proposals. Funding decisions for these proposals will be based on their ranking and available funds. Final selections will be made by close of business 21 days after the closing date for receipt of proposals.

Applicants must submit information, as specified in this solicitation, to address award criteria. Applicants must also provide information specified in this solicitation that will assist EPA in assessing their capacity to do the work outlined in the project proposal. The proposed work plan and budget should reflect activities that can realistically be completed during the period of performance of the cooperative agreement. Criteria that will be used to review, rank, and award funding are found below.

a. General background information request. EPA Regional Offices are responsible for the receipt, screening, and selection of proposals. A generic proposal format will be available on EPA's PESP Website on or before July 23, 2004, at http://www.epa.gov/oppbppd1/PESP/regional_grants.htm.

b. Selection criteria. All proposal reviews will be based on the following evaluation criteria and weights. (Total: 100 points)

• Consistency with goals of PESP. Is the project consistent with the risk reduction goals of PESP, pesticide pollution prevention or IPM, or children's health issues related to pesticides? Does the project implement reduced risk control techniques? Or, does the project develop strategies that will lead to implementation of such projects, or research methods for documenting the trends toward the adoption of IPM or the reduction of risk associated with pesticide use? (Weight: 10 points)

• Relevance. Does the project identify a critical issue in the Region or nation? Does the project address a significant local or widespread environmental concern? Does the project clearly target and define the environmental problem? For EPA Region 4 only, preference will be given to proposals that directly, measurably, and cooperatively provide service and direct impact to a Tribe within the Region. (Weight: 15 points)

• Project design. Does the project specify realistic goals and objectives that deal with the identified environmental problem? Does the project demonstrate potential for long-term benefits? Can the project be accomplished within the designated 24-month time frame? Does the project apply holistic problem-solving, particularly biological systems, and address multiple components of the system in focus? For example, if an agricultural project, does it consider soil, water, air, plant, animal and human resources? If non-agricultural, does it consider sanitation, exclusion, multiple vectors, etc.? Does the project build upon or consider lessons learned from existing efforts, or leverage other significant activities? (Weight: 20 points)

• Qualifications. Does the applicant demonstrate experience in the field of the proposed activity? Does the applicant have the properly trained staff, facilities or infrastructure in place to conduct the project? (Weight: 5 points)

• Measurement. Is the project designed in such a way that it is maximized to measure and document the results quantitatively and qualitatively? Are the measures relevant to EPA's goals and objectives? Does the applicant identify the method that will be used to measure and document the project's results quantitatively and qualitatively? Will the project assess or suggest a new means of measuring progress in reducing pesticide risks and result in information that will be valuable to other efforts? (Weight: 20 points)

• Outreach and extension. Does the project include participation of partner organizations? Does the project include the involvement of local stakeholders, farmer-to-farmer education or farmer-to-scientist interaction to achieve technology transfer? (Weight: 15 points)

• Transferability. Is the project likely to be replicated in other areas by other organizations to benefit other communities, or is the product likely to have broad utility to a widespread audience? Does the project address the sociological or economic forces that support adoption, or those impediments that limit adoption, of environmentally sensitive system? (Weight: 15 points)

3. Dispute resolution process. The procedures for dispute resolution at 40 CFR 30.63 and 40 CFR 31.70 apply.

G. Application Requirements

Content requirements. Proposals must be typewritten, double spaced in 12 point or larger print using 8.5 x 11 inch paper with minimum 1 inch horizontal and vertical margins. Pages must be numbered, in order, starting with the cover page and continuing through the appendices. One original and one electronic copy (e-mail or disk) are required.

The electronic copy must be submitted on a 3.5” disk or CD in Microsoft Word or Corel WordPerfect for Windows. The electronic copy must be consolidated into a single file. Please check your electronic submission to ensure that it does not contain any computer viruses. To be considered, both the paper and electronic copy must arrive by the due date. In order to be considered for funding, proposals must be submitted to the EPA Regional PESP Coordinator indicated in Unit IV.H. of this solicitation.

A generic proposal format is available from the EPA Internet at http://www.epa.gov/oppbppd1/PESP/regional_grants.htm. Your application package must include the following information:

Cover Page (page 1). The cover page should list the following information: EPA docket ID number OPP-2004-0171; project title; project coordinator; organization; address; telephone number; fax number; e-mail address; and project duration. A budget table should also be included that lists first year funding, second year funding, and total funding being requested and any matching funds that will be provided.

Executive Summary (page 2). The Executive Summary shall be a stand-alone document, not to exceed one page. It should quickly explain the high points of the proposed project and why it is important. It should also explain what is proposed and what you expect to accomplish regarding measuring or movement toward achieving project goals. This summary should identify the measurable environmental results you expect including potential human health and ecological benefits.

Table of Contents (page 3). List the different sections of your proposal and the page number on which each section begins.

Proposal narrative (page 4 up to page 14). Includes sections I-VI as identified below. The narrative should not exceed 10 pages.

Part I—Project title. Descriptive project title.

Part II—Project description and objectives. What is this project? Please clearly state its objectives and goals. (In most cases, each objective can be stated in a single sentence, perhaps followed by a brief discussion of timing, methods, expected outcomes, including impacts on human and environmental health, pesticide risk reduction, etc.). Does the project have a definite end point or might it give rise to future activities? If the latter, what future endeavors might it generate? What will you consider to be indicators/measures of success? How will this project benefit your State or Tribe?

Part III—Justification. For each objective listed in Part II above, discuss the potential outcome in terms of environmental, human health, pesticide risk and/or use reduction or pollution prevention. If appropriate, the target pest(s) and crop(s) should be explicitly stated. This section should be numbered with a justification corresponding to each objective.

Part IV—Literature review. Briefly describe relevant information currently available. This should also include information on projects currently in progress that are relevant to or provide the basis for either the experimental design or the validation of a new approach to pest management.

Part V—Approach and methods. Describe in detail how you will go about implementing the project and how your planned approach will support project success. Identify any personnel and/or contractors that you expect to involve in this project. Describe their roles and qualifications, including relevant training or experience.

Part VI—Impact assessment. How will you evaluate the success of the project in terms of measurable environmental results? How and with what measures will human health and the environment be better protected as a result of this project?

Part VII—Proposal appendices. Continue page numbering. These appendices must be included in the grant proposal. The appendices may be single spaced. Additional appendices are not permitted.

Appendix A—Literature cited. List cited key literature references alphabetically by author.

Appendix B—Timetable. A timetable that includes what will be accomplished under each of the objectives during the project and when completion of each objective is anticipated.

Appendix C—Major participants. List all farmers/ranchers, farm/ranch organizations, researchers, educators, conservationists and others having a major role in the proposal. Provide name, organizational affiliation or occupation (such as farmer) and a description of the role each will play in the project. A brief resume (not to exceed two pages) should be submitted for each major researcher or other educator.

Appendix D—Project budget. Provide a budget matrix that outlines costs for personnel, fringe benefits, travel, equipment, supplies, contractual, indirect cost rate, and any other costs associated with the proposed project. Identify how the requested funds are to be used and also identify how other funding will be used in this project.

Confidential business information. Applicants must clearly mark information considered confidential business information. EPA will make a final confidentiality determination for information the applicant claims as confidential business information, in accordance with Agency regulations at 40 CFR part 2, subpart B.

H. Application Procedures

Submission instructions. The applicant may contact the appropriate EPA Regional PESP Coordinator, as listed below, to obtain clarification and guidance. One original signed package must be sent by mail. An electronic copy of the proposal (on a CD or 3.5” diskette) is also required and must accompany the mailed package. The proposal must be received by your EPA Region no later than 5 p.m. August 30, 2004. Incomplete or late proposals will be disqualified for funding consideration. Contact the appropriate EPA Regional PESP Coordinator if you need assistance or have questions regarding the creation or submission of a project proposal. To ensure proper receipt by EPA, it is imperative that you identify docket ID number OPP-2004-0171 in the subject line on the first page of your proposal. EPA Regional PESP Coordinators are as follows:

Region I: (Connecticut, Maine, Massachusetts, New Hampshire, Rhode Island, Vermont), Andrea Szylvian, 1 Congress St., Suite 1100, (CPT), Boston, MA 02114-2023; telephone: (617) 918-1198; fax: (617) 918-2064; e-mail: szylvian.andrea@epa.gov.

Region II: (New Jersey, New York, Puerto Rico, Virgin Islands), Tara Masters, Raritan Depot, 2890 Woodbridge Ave., (MS-500), Edison, NJ 08837-3679; telephone: (732) 906-6183; e-mail:masters.tara@epa.gov.

Region III: (Delaware, Maryland, Pennsylvania, Virginia, West Virginia, District of Columbia), Fatima El-Abdaoui, 1650 Arch St., (3WC32), Philadelphia, PA 19103-2029; telephone: (215) 814-2129; fax: (215) 814-3114; e-mail:el-abdaoui.fatima@epa.gov.

Region IV: (Alabama, Florida, Georgia, Kentucky, Mississippi, North Carolina, South Carolina, Tennessee), Troy Pierce, 61 Forsyth St., SW., Atlanta, GA 30303-8960; telephone: (404) 562-9016; e-mail:pierce.troy@epa.gov.

Region V: (Illinois, Indiana, Michigan, Minnesota, Ohio, Wisconsin), Heather McDonald, 77 W. Jackson Blvd., (DT-8J), Chicago, IL 60604-3507; telephone: (312) 886-3572; e-mail:mcdonald.heather@epa.gov.

Region VI: (Arkansas, Louisiana, New Mexico, Oklahoma, Texas), Jerry Collins, 1445 Ross Ave., Suite 1200, (6PD-P), Dallas, TX 75202-2733; telephone: (214) 665-7562; fax: (214) 665-7263; e-mail:collins.jerry@epa.gov.

Region VII: (Iowa, Kansas, Missouri, Nebraska), Brad Horchem, 901 N. 5th St., (WWPDPEST), Kansas City, KS 66101; telephone: (913) 551-7137; fax: (913) 551-9137; e-mail: horchem.brad@epa.gov.

Region VIII: (Colorado, Montana, North Dakota, South Dakota, Utah, Wyoming), Peg Perreault, 999 18th St., Suite 300, (8P-P3T), Denver, CO 80202-2466; telephone: (303) 312-6286; fax: (303) 312-6064; e-mail: perreault.peg@epa.gov.

Region IX: (Arizona, California, Hawaii, Nevada, American Samoa, Guam), Paul Feder, 75 Hawthorne St., (CMD-1), San Francisco, CA 94105; telephone: (415) 947-4160; fax: (415) 947-3583; e-mail:feder.paul@epa.gov.

Region X: (Alaska, Idaho, Oregon, Washington), Sandy Halstead, 24106 North Bunn Road, Prosser, WA 99350; telephone: (509) 786-9225; e-mail:halstead.sandra@epa.gov.

V. Post Selection Activity

Selected applicants must formally apply for funds through the appropriate EPA Regional Office. In addition, selected applicants must negotiate a final work plan, including reporting requirements, with the designated EPA Regional Project Officer. For more general information on post award requirements and the evaluation of grantee performance, see 40 CFR part 31.

VI. Intergovernmental Review

Applicants must comply with the Intergovernmental Review Process and/or the consultation provisions of section 204, of the Demonstration Cities and Metropolitan Development Act, if applicable, which are contained in 40 CFR part 29. All State applicants should consult with their EPA Regional Office or official designated as the single point of contact in his or her State for more information on the process the State requires when applying for assistance, if the State has selected the program for review. If you do not know who your Single Point of Contact is, please call the EPA Headquarters Grant Policy Information and Training Branch at (202) 564-5325 or refer to the State Single Point of Contact web site at http://www.whitehouse.gov/omb/grants/spoc.html. Federally recognized Tribal governments are not required to comply with this procedure.

VII. Submission to Congress and the Comptroller General

Grant solicitations such as this are considered rules for the purpose for the Congressional Review Act (CRA). The CRA, 4 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection, Pesticides, Risk reduction.

Dated: July 2, 2004.
Susan B. Hazen,
Acting Assistant Administrator, Office of Prevention, Pesticides and Toxic Substances.

[FR Doc. 04-16212 Filed 7-15-04; 8:45 am]

BILLING CODE 6560-50-S